DEPARTMENT OF DEFENSE

Office of the Secretary

[Docket ID: DoD-2024-OS-0101]

Privacy Act of 1974; System of Records

AGENCY: Defense Human Resources Activity (DHRA), Department of Defense (DoD).

ACTION: Notice of a modified system of records.

SUMMARY: In accordance with the Privacy Act of 1974, the Office of the Secretary of Defense (OSD) is modifying a current system of records titled, Defense Civilian Human Resource Management System (DCHRMS), DHRA 23 DoD. The records within this system are used to provide human resource information and system support for the DoD civilian workforce worldwide that manages the HR processing and reporting, including position, compensation and benefits, and performance management, as well as create efficiencies in Human Capital Management. This system of records notice (SORN) is being updated to cover compensation records and administrative appeals relating to claims filed under the Helping American Victims Afflicted by Neurological Attacks Act (HAVANA). This SORN modification expands the Category of Individuals section to cover current and former DoD employees, and dependents of current or former employees who on or after January 1, 2016, experienced a qualifying brain injury. Additionally, the DoD is modifying the Routine Use section to allow additional sharing outside of DoD. Lastly, the DoD is also modifying various other sections within the SORN to improve clarity or update information that has changed.

DATES: This system of records is effective upon publication; however, comments on the Routine Uses will be accepted on or before October 23, 2024. The Routine Uses are effective at the close of the comment period.

ADDRESSES: You may submit comments, identified by docket number and title, by either of the following methods:

* Federal Rulemaking Portal: https://www.regulations.gov. Follow the instructions for submitting comments.

* Mail: Department of Defense, Office of the Assistant to the Secretary of Defense for Privacy, Civil Liberties, and Transparency, Regulatory Directorate, 4800 Mark Center Drive, Attn: Mailbox 24, Suite 05F16, Alexandria, VA 22350-1700.

Instructions: All submissions received must include the agency name and docket number for this Federal Register document. The general policy for comments and other submissions from members of the public is to make these submissions available for public viewing on the internet at https://www.regulations.gov as they are received without change, including any personal identifiers or contact information.

FOR FURTHER INFORMATION CONTACT: Samuel Peterson, DHRA Component Privacy Officer, 400 Gigling Rd., Seaside, CA 93955, dodhra.mc-alex.dhra-hq.mbx.privacy@mail.mil or 831-220-7330.

SUPPLEMENTARY INFORMATION:

I. Background

DoD is modifying the Defense Civilian Human Resource Management System, DHRA 23 DoD to support amendment of the Helping American Victims Afflicted by Neurological Attacks Act (HAVANA). In 2016, Department of State employees stationed in Havana, Cuba, began reporting a sudden onset of symptoms, including headaches, pain, nausea, disequilibrium, and hearing loss, in conjunction with sensory events. Federal agencies have called such incidents Anomalous Health Incidents (“AHIs”). Since 2016, Federal employees in numerous countries reported suspected AHIs.

Beginning on December 20, 2019, the Department of State was authorized by statute to pay benefits to employees and their dependents for injuries suffered in the Republic of Cuba, the People's Republic of China, or other foreign countries designated by the Secretary of State incurred after January 1, 2016, in connection with certain hostile or other incidents designated by the Secretary of State (Pub. L. 116-94, Division J, Title IX, section 901) (codified in 22 U.S.C. 2680b). These benefits were limited to Department of State employees only (i.e., not other U.S. Government employees under Chief of Mission (COM) authority). On January 1, 2021, this law was amended, authorizing other Federal Government agencies (such as the DoD) to provide benefits to their own employees under COM authority who suffered similar injuries. (Pub. L. 116-283, div. A, title XI, section 1110).

On October 8, 2021, the President signed the HAVANA Act of 2021 (Pub. L. 117-46). The HAVANA Act amended section 901 to authorize Federal Government agencies to compensate affected employees, former employees, and their dependents for qualifying injuries to the brain. The HAVANA Act amendments did not require that the qualifying injury occur in the Republic of Cuba, the People's Republic of China, or another foreign country designated by the Secretary of State. Section 9216 of the James M. Inhofe National Defense Authorization Act for Fiscal Year 2023 provided agencies with authority to designate incidents affecting employees or dependents who are not under the security responsibility of the Secretary of State.

The records within DHRA 23 DoD are used to provide human resource information and system support for the DoD civilian workforce worldwide that manages the HR processing and reporting, including position, compensation and benefits, and performance management, as well as create efficiencies in Human Capital Management. The SORN is being updated to cover compensation records and administrative appeals relating to claims filed under the HAVANA Act. This SORN modification expands the Category of Individuals section to cover current and former DoD employees, and dependents of current or former employees who on or after January 1, 2016, experienced a qualifying brain injury.

Subject to public comment, the DoD is adding standard routine use “I” authorizing sharing in the context of Inspector General activities, routine use “J” to allow for disclosures mandated by Federal statute or treaty, and routine use “N” to allow for sharing with the Department of State for the purpose of evaluating whether an incident is an “other incident” for purposes of establishing a qualifying injury. The following sections of this SORN are also being modified: (1) to the System Location section to reflect the various locations in which records may reside; (2) to the Authority for Maintenance of the System section to update citations(s) and add additional authorities; (3) to the Purpose section to provide clarity on how information will be used; (4) to the Categories of Records section to clarify how the records relate to the Category of Individuals; (5) to the Records Source Categories section to update source information; (6) to the Record Access Procedures section to reflect the need for individuals to identify the appropriate DoD office or component to which their request should be directed; and (7) to the Notification Procedures section to update the appropriate citation for notifications.

DoD SORNs have been published in the Federal Register and are available from the address in FOR FURTHER INFORMATION CONTACT or at the Office of the Assistant to the Secretary for Defense for Privacy, Civil Liberties, and Transparency (OATSD(PCLT)) website at https://dpcld.defense.gov/privacy.

II. Privacy Act

Under the Privacy Act, a “system of records” is a group of records under the control of an agency from which information is retrieved by the name of an individual or by some identifying number, symbol, or other identifying particular assigned to the individual. In the Privacy Act, an individual is defined as a U.S. citizen or lawful permanent resident.

In accordance with 5 U.S.C. 552a(r) and Office of Management and Budget (OMB) Circular No. A-108, OATSD(PCLT) has provided a report of this system of records to the OMB and to Congress.

Dated: September 18, 2024.
Aaron T. Siegel,
Alternate OSD Federal Register Liaison Officer, Department of Defense.

SYSTEM NAME AND NUMBER:

Defense Civilian Human Resource Management System (DCHRMS), DHRA 23 DoD.

SECURITY CLASSIFICATION:

Unclassified.

SYSTEM LOCATION:

Department of Defense (Department or DoD), located at 1000 Defense Pentagon, Washington, DC 20301-1000, and other Department installations, offices, or mission locations. Information may also be stored within a government-certified cloud, implemented and overseen by the Department's Chief Information Officer (CIO), 6000 Defense Pentagon, Washington, DC 20301-6000.

SYSTEM MANAGER(S):

Director, Enterprise Solutions and Integration Defense Civilian Personnel Advisory Service, 4800 Mark Center Drive, Suite 06E22, Arlington, VA 22350-6000, dodhra.mc-alex.dcpas.mbx.saco@mail.mil.

AUTHORITY FOR MAINTENANCE OF THE SYSTEM:

5 U.S.C. Chapter 11, Office of Personnel Management; 5 U.S.C. Chapter 13, Special Authority; 5 U.S.C. Chapter 29, Commissions, Oaths, Records, and Reports; 5 U.S.C. Chapter 31, Authority for Employment; 5 U.S.C. Chapter 33, Examination, Selection, and Placement; 5 U.S.C. Chapter 41, Training; 5 U.S.C. Chapter 43, Performance Appraisal; 5 U.S.C. Chapter 51, Classification; 5 U.S.C. Chapter 53, Pay Rates and Systems; 5 U.S.C. Chapter 55, Pay Administration; 5 U.S.C. Chapter 61, Hours of Work; 5 U.S.C. Chapter 63, Leave; 5 U.S.C. Chapter 72, Antidiscrimination; Right to Petition Congress; 5 U.S.C. 7201, Antidiscrimination Policy; Minority Recruitment Program; 5 U.S.C. Chapter 75, Adverse Actions; 5 U.S.C. Chapter 83, Retirement; 5 U.S.C. Chapter 84, Federal Employees' Retirement System, Antidiscrimination Policy; Minority Recruitment Program; 10 U.S.C. 136, Under Secretary of Defense for Personnel and Readiness; HAVANA Act of 2021, Public Law 117-46, 135 Stat. 391 (2021) (codified at 22 U.S.C. 2680b(i)); Executive Order (E.O.) 9830, Amending the Civil Service Rules and Providing for Federal Personnel Administration, as amended; 29 CFR 1614.601, EEO Group Statistics; and E.O. 9397 (SSN), as amended.

PURPOSE(S) OF THE SYSTEM:

Data is used to maintain a system of records that provides human resource information and system support for the Department of Defense (DoD) civilian workforce worldwide that manages the human resources processing and reporting, including position, compensation and benefits, performance management, and in making determinations of qualifications, as well as create efficiencies in Human Capital Management. Data is also used for analysis in order to meet Congressional and Federal reporting requirements.

CATEGORIES OF INDIVIDUALS COVERED BY THE SYSTEM:

Civilian employee, prospective applicants, and job applicants selected for civilian appropriated/non-appropriated fund (NAF), local nationals, and National Guard civilian technician positions in the DoD; and past and present DoD Civilian employees and their dependents eligible to submit claims in accordance with the HAVANA Act.

CATEGORIES OF RECORDS IN THE SYSTEM:

Personal information including: Name, date and place of birth, citizenship, gender, marital status, DoD identification number (DoD ID), Social Security Number (SSN), addresses, phone numbers, email addresses, employee number, emergency contact information, dependent and family member information, security clearance information, race and ethnic origin, disability code, and foreign language capability. Compensation records and administrative appeals relating to claims filed under the HAVANA Act. Position authorization and control information, position data and performance elements, personnel data and projected suspense information for personnel actions, pay, benefits, and entitlements data. Historical information on employees, including job experience, education, training, and training transaction data, performance plans, interim appraisals, final appraisals, closeouts and ratings, professional accounting or other certifications or licenses, awards information and merit promotion information, separation and retirement data, civilian deployment information, and adverse and disciplinary action data. In addition, the Corporate Management Information System data (which is comprised of each employee current and historical record, to include all person, assignment, position, and personnel actions/updates) will be maintained and refreshed for agencies' historical and congressional reporting purposes.

RECORD SOURCE CATEGORIES:

The individual, resumes, applicant record, employee or supervisor generated training requests; human resources generated records; employee generated data recorded as self-certified; and other employee or supervisor generated records. Data is also received from various interfaces with systems including, the Corporate Management Information System, Joint Personnel Adjudication System, Fourth Estate Manpower Tracking System, Defense Civilian Payroll System, the Air Force Manpower Programming and Execution System, NAF Payroll, Thrift Savings Plan hardship, Interactive Voice Recognition System, USA Staffing, and employee completed training data provided by respective Component agencies.

ROUTINE USES OF RECORDS MAINTAINED IN THE SYSTEM, INCLUDING CATEGORIES OF USERS AND PURPOSES OF SUCH USES:

In addition to those disclosures generally permitted under 5 U.S.C. 552a(b) of the Privacy Act of 1974, as amended, all or a portion of the records or information contained herein may specifically be disclosed outside the DoD as a routine use pursuant to 5 U.S.C. 552a(b)(3) as follows:

A. To contractors, grantees, experts, consultants, students, and others performing or working on a contract, service, grant, cooperative agreement, or other assignment for the Federal Government when necessary to accomplish an agency function related to this system of records.

B. To the appropriate Federal, State, local, territorial, tribal, foreign, or international law enforcement authority or other appropriate entity where a record, either alone or in conjunction with other information, indicates a violation or potential violation of law, whether criminal, civil, or regulatory in nature.

C. To any component of the Department of Justice for the purpose of representing the DoD, or its components, officers, employees, or members in pending or potential litigation to which the record is pertinent.

D. In an appropriate proceeding before a court, grand jury, or administrative or adjudicative body or official, when the DoD or other Agency representing the DoD determines that the records are relevant and necessary to the proceeding; or in an appropriate proceeding before an administrative or adjudicative body when the adjudicator determines the records to be relevant to the proceeding.

E. To the National Archives and Records Administration for the purpose of records management inspections conducted under the authority of 44 U.S.C. 2904 and 2906.

F. To a Member of Congress or staff acting upon the Member's behalf when the Member or staff requests the information on behalf of, and at the request of, the individual who is the subject of the record.

G. To appropriate agencies, entities, and persons when (1) the DoD suspects or confirms a breach of the system of records; (2) the DoD determines as a result of the suspected or confirmed breach there is a risk of harm to individuals, the DoD (including its information systems, programs, and operations), the Federal Government, or national security; and (3) the disclosure made to such agencies, entities, and persons is reasonably necessary to assist in connection with the DoD's efforts to respond to the suspected or confirmed breach or to prevent, minimize, or remedy such harm.

H. To another Federal agency or Federal entity, when the DoD determines that information from this system of records is reasonably necessary to assist the recipient agency or entity in (1) responding to a suspected or confirmed breach or (2) preventing, m6inimizing, or remedying the risk of harm to individuals, the recipient agency or entity (including its information systems, programs and operations), the Federal Government, or national security, resulting from a suspected or confirmed breach.

I. To another Federal, State or local agency for the purpose of comparing to the agency's system of records or to non-Federal records, in coordination with an Office of Inspector General in conducting an audit, investigation, inspection, evaluation, or some other review as authorized by the Inspector General Act of 1978, as amended.

J. To such recipients and under such circumstances and procedures as are mandated by Federal statute or treaty.

K. To the Equal Employment Opportunity Commission for the purpose of providing Equal Employment Opportunity group statistics in accordance with 29 CFR 1614.601, EEO Group Statistics.

L. To the Office of Personnel Management (OPM) for the purpose of addressing civilian pay and leave, benefits, retirement deduction, and any other information necessary for the OPM to carry out its legally authorized government-wide personnel management functions and studies.

M. To educational institutions and commercial training providers for the purpose of selecting and registering applicants approved by a DoD component to attend a specified program, and, when applicable, to provide for payment.

N. To the Department of State, as appropriate in evaluating whether an incident is an “other incident” for purposes of establishing a qualifying injury or should be so designated. Other incident is a new onset of physical manifestations that cannot otherwise be readily explained that is designated under 22 U.S.C. 2680b.

POLICIES AND PRACTICES FOR STORAGE OF RECORDS:

Records may be stored electronically. The records may be stored on magnetic disc, tape, or digital media; in agency-owned cloud environments; or in vendor Cloud Service Offerings certified under the Federal Risk and Authorization Management Program (FedRAMP).

POLICIES AND PRACTICES FOR RETRIEVAL OF RECORDS:

Records may be retrieved by name, DoD ID, or SSN.

POLICIES AND PRACTICES FOR RETENTION AND DISPOSAL OF RECORDS:

Records are retained for 25 years after the records are closed—defined as after an individual separates from the Agency for Service members or after final payment is received for dependents; Corporate Management Information System records are cutoff and destroyed when no longer needed for business use.

ADMINISTRATIVE, TECHNICAL, AND PHYSICAL SAFEGUARDS:

Records are accessed and/or maintained in areas accessible only to authorized personnel who are properly screened, cleared, and trained. Common Access Cards (CACs) are employed to ensure access is limited to authorized personnel only. Role based access is used to ensure HR Personnel and system administrators have access to only the records they are entitled to see. Employees are able to access and view only their records and update certain personal information to them via two-factor authentication or CAC. Additional technical controls include encryption of data at rest and in transit, firewall, virtual private network, intrusion detection system, DoD Public Key Infrastructure Certificates, and least privilege access. Security systems and/or security guards protect buildings where records are accessed or maintained. Additional physical access controls include, biometric access systems, multiple layers of locked access control doors and mantraps, closed-circuit television, and physical intrusion alarms.

RECORD ACCESS PROCEDURES:

Individuals seeking access to records about themselves contained in this system should address written inquiries to the Office of the Secretary of Defense/Joint Staff FOIA Requester Service Center, Office of Freedom of Information, 1155 Defense Pentagon, Washington, DC 20301-1155. Signed written requests should contain name and number of this system of records notice along with full, current address, and email of the individual name, date of birth, DoD ID Number, and dates of employment (or approximate), and last employing agency. In addition, the requester must provide either a notarized statement or an unsworn declaration made in accordance with 28 U.S.C. 1746, in the following format:

If executed outside the United States: “I declare (or certify, verify, or state) under penalty of perjury under the laws of the United States of America that the foregoing is true and correct. Executed on (date). (Signature).”

If executed within the United States, its territories, possessions, or commonwealths: “I declare (or certify, verify, or state) under penalty of perjury that the foregoing is true and correct. Executed on (date). (Signature)”.

CONTESTING RECORD PROCEDURES:

The DoD rules for accessing records, contesting contents, and appealing initial Component determinations are contained in 32 CFR part 310, or may be obtained from the system manager.

NOTIFICATION PROCEDURES:

Individuals seeking to determine whether information about themselves is contained in this system of records should follow the instructions for Record Access Procedures above.

EXEMPTIONS PROMULGATED FOR THE SYSTEM:

None.

HISTORY:

January 28, 2020, 85 FR 4949; November 15, 2010, 75 FR 69642.

[FR Doc. 2024-21715 Filed 9-20-24; 8:45 am]

BILLING CODE 6001-FR-P